DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than May 6, 2016.

Interested persons are invited to submit written comments regarding the subject matter of the investigations to the Director, Office of Trade Adjustment Assistance, at the address shown below, not later than May 6, 2016.

The petitions filed in this case are available for inspection at the Office of the Director, Office of Trade Adjustment Assistance, Employment and Training Administration, U.S. Department of Labor, Room N-5428, 200 Constitution Avenue NW., Washington, DC 20210.

Signed at Washington, DC this 1st day of April 2016.
Jessica R. Webster,
Certifying Officer, Office of Trade Adjustment Assistance.

APPENDIX

109 TAA Petitions Instituted Between 2/29/16 and 3/25/16
TA-W | Subject firm (petitioners) | Location | Date of institution | Date of petition
91523 | Eaton Corporation (Workers) | Gainesboro, TN | 02/29/16 | 02/22/16
91524 | Cameron International Corp. (State/One-Stop) | Millbury, MA | 02/29/16 | 02/26/16
91525 | Teknetix Inc. (Workers) | Parkersburg, WV | 02/29/16 | 02/26/16
91526 | Fairmont Supply Company (Workers) | Troy, PA | 02/29/16 | 02/26/16
91527 | Venango Steel, Inc. (Company) | Franklin, PA | 03/01/16 | 02/29/16
91528 | DTNA CTMP (Workers) | Cleveland, NC | 03/01/16 | 02/24/16
91529 | Bimbo Bakeries USA, Inc. (Workers) | Spencer, IA | 03/01/16 | 02/25/16
91530 | Progress Metal Reclamation (State/One-Stop) | Ashland, KY | 03/01/16 | 03/01/16
91531 | TTI Floor Care North America (Union) | North Canton, OH | 03/01/16 | 02/29/16
91532 | Ingersoll Rand (State/One-Stop) | Cheektowaga, NY | 03/01/16 | 02/29/16
91533 | Cleanharbors (Workers) | San Leon, TX | 03/02/16 | 03/01/16
91534 | EVRAZ Oregon Steel (Company) | Portland, OR | 03/02/16 | 03/01/16
91535 | GETS General Electric Transportation (Company) | Grove City, PA | 03/02/16 | 03/01/16
91536 | Kennametal, Inc. (Workers) | Latrobe, PA | 03/02/16 | 02/22/16
91537 | Boone Hospital Center (State/One-Stop) | Columbia, MO | 03/02/16 | 03/01/16
91538 | Campbell Soup Company (State/One-Stop) | Camden, NJ | 03/02/16 | 03/01/16
91539 | Genpact (State/One-Stop) | Farmington Hills, MI | 03/03/16 | 03/02/16
91540 | ET Manufacturing Corporation (State/One-Stop) | Sartell, MN | 03/03/16 | 03/02/16
91541 | C.R. Bard Inc. (State/One-Stop) | Stewartille, MN | 03/03/16 | 03/02/16
91542 | UCI-FRAM Group, LLC/Autolite (Company) | Lake Forest, IL | 03/03/16 | 03/03/16
91543 | CVG Mayflower Systems Group, L.L.C. (Company) | Shadyside, OH | 03/03/16 | 02/15/16
91544 | Black Knight Financial Services Inc. (State/One-Stop) | Glendale, CA | 03/04/16 | 03/03/16
91545 | Covanta Maine LLC-Covanta Jonesboro (Company) | Jonesboro, ME | 03/04/16 | 03/03/16
91546 | Dial America (State/One-Stop) | Williamsville, NY | 03/04/16 | 03/03/16
91547 | GE Transportation (Union) | Erie, PA | 03/04/16 | 03/03/16
91548 | Sensata Technologies (Workers) | Everett, WA | 03/04/16 | 03/03/16
91549 | W.W. Grainger (Workers) | Janesville, WI | 03/04/16 | 03/03/16
91550 | Microfibres Inc., (Workers) | Winston Salem, NC | 03/04/16 | 03/03/16
91551 | UTi (State/One-Stop) | Portland, OR | 03/07/16 | 03/04/16
91552 | Double Press Manufacturing, Inc. (State/One-Stop) | Madras, OR | 03/07/16 | 03/04/16
91553 | Bank of America (State/One-Stop) | Charlotte, NC | 03/07/16 | 03/04/16
91554 | Polar Tank Trailer (State/One-Stop) | Holdingford, MN | 03/07/16 | 03/04/16
91555 | Time Machine, Inc. (Company) | Polk, PA | 03/07/16 | 03/04/16
91556 | Bradken, Inc. (State/One-Stop) | St. Joseph, MO | 03/07/16 | 03/04/16
91557 | Hutchinson Technology Inc. (State/One-Stop) | Hutchinson, MN | 03/07/16 | 03/04/16
91558 | CNA Insurance (State/One-Stop) | Syracuse, NY | 03/08/16 | 03/07/16
91559 | Halliburton Energy Services (All Duncan, OK Locations) (Workers) | Duncan, OK | 03/08/16 | 03/07/16
91560 | General Cable Corp (Malvern Division) (Company) | Malvern, AR | 03/08/16 | 03/07/16
91561 | Schlumhberger (State/One-Stop) | Lafayette, LA | 03/08/16 | 03/07/16
91562 | Halliburton (Workers) | Duncan, OK | 03/08/16 | 03/07/16
91563 | Measurement Specialties, Inc. (Company) | Beavercreek, OH | 03/08/16 | 03/07/16
91564 | Sprint (Workers) | Temple, TX | 03/09/16 | 02/06/16
91565 | Bridgestone/Firestone (Union) | Des Moines, IA | 03/09/16 | 02/17/16
91566 | UBS (State/One-Stop) | Weehawken, NJ | 03/09/16 | 03/08/16
91567 | Titan Tire (Union) | Bryan, OH | 03/09/16 | 03/08/16
91568 | Hewlett-Packard Company (State/One-Stop) | Colorado Springs, CO | 03/09/16 | 03/08/16
91569 | Vigo Coal Operating Company—Friendsville Mine (Company) | Mount Carmel, IL | 03/09/16 | 03/08/16
91570 | EigenLight Corporation (Company) | Somersworth, NH | 03/10/16 | 02/25/16
91571 | Molycorp Mt. Pass (Workers) | Mountain Pass, CA | 03/10/16 | 02/22/16
91572 | Lehigh Specialty Melting (Workers) | Latrobe, PA | 03/10/16 | 03/09/16
91573 | nLight Inc. (State/One-Stop) | Vancouver, WA | 03/11/16 | 02/16/16
91574 | Sensata Technologies (State/One-Stop) | Everett, WA | 03/11/16 | 03/01/16
91575 | Swanson Group Headquarters (State/One-Stop) | Glendale, OR | 03/11/16 | 03/10/16
91576 | AECOM (State/One-Stop) | Austin, TX | 03/11/16 | 03/10/16
91577 | Lelege USA Corp. (State/One-Stop) | Dallas, TX | 03/11/16 | 03/10/16
91578 | QBE North America (State/One-Stop) | Eden Prairie, MN | 03/11/16 | 03/10/16
91579 | Republic Steel (Union) | Massillon, OH | 03/11/16 | 03/10/16
91580 | The Bank of New York Mellon (Workers) | Syracuse, NY | 03/14/16 | 03/05/16
91581 | Ocwen Loan Servicing, LLC (State/One-Stop) | Waterloo, IA | 03/14/16 | 03/11/16
91582 | Hologic (State/One-Stop) | Bedford, MA | 03/14/16 | 03/11/16
91583 | Dyno Nobel (State/One-Stop) | Biwabik, MN | 03/14/16 | 03/11/16
91584 | Blackmer Pump (Union) | Grand Rapids, MI | 03/14/16 | 03/13/16
91585 | Ziegler Cat (State/One-Stop) | Buhl, MN | 03/14/16 | 03/11/16
91586 | Maersk Agency USA, Inc. (Company) | The Woodlands, TX | 03/14/16 | 03/11/16
91587 | RWC, Inc. (Workers) | Bay City, MI | 03/14/16 | 03/12/16
91588 | Century Aluminum of South Carolina Inc. (Company) | Goose Creek, SC | 03/15/16 | 03/14/16
91589 | Fujitsu America Inc. (State/One-Stop) | Sunnyvale, CA | 03/15/16 | 03/14/16
91590 | Madison Paper Industries (Union) | Madison, ME | 03/15/16 | 03/14/16
91591 | Eaton Corporation (Company) | Spencer, IA | 03/15/16 | 03/14/16
91592 | Hewlett Packard (State/One-Stop) | Quincy, MA | 03/15/16 | 03/14/16
91593 | Alexander & Baldwin, LLC (Union) | Puunene, HI | 03/16/16 | 03/08/16
91594 | Sprint Corporation (Workers) | Temple, TX | 03/16/16 | 02/06/16
91595 | Vuteq USA, Inc. (Company) | Normal, IL | 03/16/16 | 03/15/16
91596 | Hitachi Metals Automotive Components USA, LLC (Company) | Wellsboro, PA | 03/16/16 | 03/14/16
91597 | Plantronics, Inc. (Workers) | Santa Cruz, CA | 03/16/16 | 03/14/16
91598 | Qualcomm Technology, Inc. (State/One-Stop) | San Diego, CA | 03/16/16 | 03/15/16
91599 | Range Steel Fabricators (State/One-Stop) | Hibbing, MN | 03/16/16 | 03/15/16
91600 | Langeloth Metallurgical Co. (Workers) | Langeloth, PA | 03/17/16 | 03/16/16
91601 | Trinity Containers, LLC (Workers) | Quincy, IL | 03/17/16 | 03/09/16
91602 | Accuride Corporation (Workers) | Camden, SC | 03/17/16 | 03/16/16
91603 | SSSI, Inc., d/b/a Songer Steel Services, Inc. (Company) | Washington, PA | 03/17/16 | 03/16/16
91604 | Dairy Farmers of America (DFA) (State/One-Stop) | Springfield, MO | 03/18/16 | 03/17/16
91605 | Statcorp (Company) | Jacksonville, FL | 03/18/16 | 03/17/16
91606 | Big Heart Pet Brands (State/One-Stop) | Terminal Island, CA | 03/18/16 | 03/17/16
91607 | Bombardier Learjet (State/One-Stop) | Wichita, KS | 03/18/16 | 03/17/16
91608 | Harsko (Union) | Koppel, PA | 03/18/16 | 03/17/16
91609 | Kim Lighting (State/One-Stop) | City of Industry, CA | 03/21/16 | 03/18/16
91610 | Chevron (Workers) | Lost Hills, CA | 03/21/16 | 03/18/16
91611 | Sherwin Alumina (Union) | Gregory, TX | 03/22/16 | 03/21/16
91612 | Cartus Corporation (Company) | Danbury, CT | 03/22/16 | 03/21/16
91613 | Microfibres, Inc. (State/One-Stop) | Winston-Salem, NC | 03/22/16 | 03/21/16
91614 | Littelfuse, Inc. (Company) | Chicago, IL | 03/22/16 | 03/21/16
91615 | Nordic-Calista Services (Company) | Anchorage, AK | 03/22/16 | 03/21/16
91616 | Mary's River Lumber Company (State/One-Stop) | Montesano, WA | 03/23/16 | 03/21/16
91617 | Boise (State/One-Stop) | International Falls, MN | 03/23/16 | 03/22/16
91618 | Kato Engineering Inc. (State/One-Stop) | North Mankato, MN | 03/23/16 | 03/22/16
91619 | Allen Harim Foods (State/One-Stop) | Cordova, MD | 03/23/16 | 03/22/16
91620 | Citation Oil and Gas Corporation (State/One-Stop) | Odin, IL | 03/23/16 | 03/22/16
91621 | Au'Some Candy Company (Workers) | Sumter, SC | 03/23/16 | 03/22/16
91622 | General Electric Lighting, Inc. (State/One-Stop) | Mattoon, IL | 03/23/16 | 03/22/16
91623 | Experian (Company) | Costa Mesa, CA | 03/23/16 | 03/22/16
91624 | IBM—Global Services Division, MWPM (State/One-Stop) | Armonk, NY | 03/23/16 | 03/23/16
91625 | Preferred Podiatry Management, LLC (State/One-Stop) | Northbrook, IL | 03/24/16 | 03/23/16
91626 | Strata Mine Services (Workers) | Canonsburg, PA | 03/24/16 | 03/23/16
91627 | Grand Rapids Plastics (State/One-Stop) | Grand Rapids, MI | 03/24/16 | 03/23/16
91628 | McGuane Industries (Workers) | Burton, MI | 03/24/16 | 03/23/16
91629 | Royal Oak Industries Company (State/One-Stop) | Bloomfield Hills, MI | 03/25/16 | 03/21/16
91630 | Royal Oak Boring (State/One-Stop) | Port Huron, MI | 03/25/16 | 03/21/16
91631 | Bronson Precision Products (State/One-Stop) | Bronson, MI | 03/25/16 | 03/21/16

[FR Doc. 2016-09553 Filed 4-25-16; 8:45 am]

BILLING CODE 4510-FN-P